DEPARTMENT OF HOUSING AND URBAN DEVELOPMENT

[Docket No. FR-5858-N-06]

Announcement of the Housing Counseling Federal Advisory Committee Notice of Public Meeting

AGENCY: Office of the Assistant Secretary for Housing—Federal Housing Commissioner, Department of Housing and Urban Development (HUD).

ACTION: Notice of Housing Counseling Federal Advisory Committee (HCFAC) public meeting.

SUMMARY: This gives notice of a Housing Counseling Federal Advisory Committee (HCFAC) meeting and sets forth the proposed agenda. The Committee meeting will be held on Monday, May 15, 2017. The meeting is open to the public and is accessible to individuals with disabilities.

DATES: The in-person meeting will be held on Monday, May 15, 2017 from 8:30 a.m. to 5:30 p.m. Eastern Daylight Time (EDT) at Constitution Center, Federal Housing Finance Agency, 400 Seventh Street SW., Washington, DC 20024 and via conference phone.

FOR FURTHER INFORMATION CONTACT: Marjorie George, Housing Program Technical Specialist, Office of Housing Counseling, U.S. Department of Housing and Urban Development, 200 Jefferson Avenue, Suite 300, Memphis, TN 38103; telephone number (901) 544-4228 (this is not a toll-free number). Persons who have difficulty hearing or speaking may access this number via TTY by calling the toll-free Federal Relay Service at (800) 877-8339 (toll-free number). Individuals may also email HCFACCommittee@hud.gov.

SUPPLEMENTARY INFORMATION: HUD is convening the meeting of the HCFAC on Monday, May 15, 2017 from 8:30 a.m. to 5:30 p.m. EDT. The meeting will be held at Constitution Center, Federal Housing Finance Agency, 400 Seventh Street SW., Washington, DC 20024 and via conference phone. This meeting notice is provided in accordance with the Federal Advisory Committee Act, 5 U.S.C. App. 10(a)(2).

Draft Agenda—Housing Counseling Federal Advisory Committee Meeting—May 15, 2017

I. Welcome

II. Panel Discussions—Expanding Access to and Sustainability of HUD Housing Counseling

III. Public Comment

IV. HCFAC Discussion

V. Next Steps

VI. Adjourn

Registration

The public is invited to attend this one-day meeting in-person or by phone. Advance registration is required to participate. To register to attend, please visit the following link: https://pavr.wufoo.com/forms/hcfac-meeting-registration-51517/.

After completing the pre-registration process at the above link, in-person attendees will receive details about the meeting location and how to access the building. The meeting is also open to the public with limited phone lines available on a first-come, first-served basis. Phone attendees can call-in to the one-day meeting by using the following number in the United States: (800) 230-1074 (toll-free number). An operator will ask callers to provide their names and their organizational affiliations (if applicable) prior to placing callers into the conference line to ensure they are part of the pre-registration list. Callers can expect to incur charges for calls they initiate over wireless lines and HUD will not refund any incurred charges. Callers will incur no charge for calls they initiate over land-line connections to the toll-free phone number. Persons with hearing impairments may also follow the discussion by first calling the Federal Relay Service (FRS): (800) 977-8339 (toll-free number) and providing the FRS operator with the conference call number: (800) 230-1074.

Comments

With advance registration, members of the public will have an opportunity to provide oral and written comments relative to the four agenda topics for the Committee's consideration. To provide oral comments, please be sure to indicate this on the registration link. The total amount of time for oral comments will be 15 minutes with each commenter limited to two minutes to ensure pertinent Committee business is completed. Written comments must be provided no later than May 5, 2017 to HCFACCommittee@hud.gov. Please note, written statements submitted will not be read during the meeting. The Committee will not respond to individual written or oral statements; but, will take all public comments into account in its deliberations.

Meeting Records

Records and documents discussed during the meeting, as well as other information about the work of this Committee, will be available for public viewing as they become available at: http://www.facadatabase.gov/committee/committee.aspx?cid=2492&aid=77 by clicking on the “Committee Meetings” link.

Dated: April 12, 2017.
Genger Charles,
General Deputy Assistant, Secretary for Housing.

[FR Doc. 2017-08331 Filed 4-24-17; 8:45 am]

BILLING CODE 4210-67-P